DEPARTMENT OF COMMERCE

National Oceanic and Atmospheric Administration

RIN 0648-XC883

Endangered and Threatened Species; Take of Anadromous Fish

AGENCY: National Marine Fisheries Service (NMFS), National Oceanic and Atmospheric Administration (NOAA), Commerce.

ACTION: Receipt of four permit applications and one permit modification request for scientific research and enhancement.

SUMMARY: Notice is hereby given that NMFS has received four scientific research and enhancement permit applications and one permit modification request relating to anadromous species listed under the Endangered Species Act (ESA). The proposed research activities are intended to increase knowledge of the species and to help guide management and conservation efforts. The applications and related documents may be viewed online at: https://apps.nmfs.noaa.gov/preview/preview_open_for_comment.cfm. These documents are also available upon written request or by appointment by contacting NMFS by phone (916) 930-3706 or fax (916) 930-3629.

DATES: Written comments on the permit applications or modification request must be received at the appropriate address or fax number (see ADDRESSES) no later than 5-p.m. Pacific standard time on October 25, 2013.underline

ADDRESSES: Written comments on the applications or modification request should be submitted to the Protected Resources Division, NMFS, 650 Capitol Mall, Room 5-100, Sacramento, CA 95814. Comments may also be submitted via fax to (916) 930-3629 or by email to FRNpermits.sac@noaa.gov.

FOR FURTHER INFORMATION CONTACT: Amanda Cranford, Sacramento, CA (ph.: 916-930-3706, email.: Amanda.Cranford@noaa.gov).

SUPPLEMENTARY INFORMATION:

Species Covered in This Notice

This notice is relevant to federally threatened California Central Valley steelhead (Oncorhynchus mykiss), threatened Central Valley spring-run Chinook salmon (O. tshawytscha), endangered Sacramento River winter-run Chinook salmon (O. tshawytscha), and the threatened southern distinct population segment of North American (SDPS) green sturgeon (Acipenser medirostris).

Authority

Scientific research permits are issued in accordance with Section 10(a)(1)(A) of the ESA of 1973 (16 U.S.C. 1531-1543) and regulations governing listed fish and wildlife permits(50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the permit applications listed in this notice should set out the specific reasons why a hearing on the application(s) would be appropriate (see ADDRESSES). Such hearings are held at the discretion of the Assistant Administrator for Fisheries, NMFS.

Applications Received

Permit 1415

The U.S. Fish and Wildlife Services' (USFWS) Red Bluff Fish and Wildlife Office is requesting a 5-year scientific research and enhancement permit for take of adult and juvenile Sacramento River winter-run Chinook salmon, Central Valley spring-run Chinook salmon, and California Central Valley steelhead; and eggs, larvae, juvenile and adult SDPS green sturgeon associated with monitoring and research activities conducted at multiple sites within the Sacramento River basin, Central Valley, CA. Receipt of permit application 1415 was previous noticed in the Federal Register (74 FR 7879) with a 30 day comment period from February 20, 2009 to March 23, 2009. No comments were received for this application, however due to substantial changes to the sampling locations and study descriptions NMFS is publishing the revised notice for public comment.

The overall purpose of the projects is to provide monitoring data for various evaluations, including restoration actions, stream flow assessments, management actions, and life-history investigations. Streams targeted for research and monitoring include Battle Creek, Clear Creek, and the mainstem of the upper Sacramento River (i.e., upper river and surrounding watersheds). Take resulting from the proposed research and monitoring activities will involve observations (snorkel surveys, redd counts and escapement/stream surveys) or capture (by trawl, seine, fyke-net trap, benthic D-net, substrate samplers, hook and line, backpack electrofishing, weir trap, trammel or gill net, rotary screw trap, egg mats, or by dip net), handling (fin clipping, tissue sampling, coded-wire tag extraction, otolith extraction), marking (Bismark Brown Y stain), tagging (acoustic, radio or passive integrated transponder [PIT]), and release of fish in association with nine separate projects.

Permit 17761

The East Bay Municipal Utility District (EBMUD) is requesting a 5-year permit to conduct monitoring and research of anadromous and resident fishes in the Lower Mokelumne River. Permit 17761 will be a renewal of EBMUD's current Section 10(a)(1)(A) permit (1414-M1). The goals of the Lower Mokelumne River Fish Monitoring Program include measuring the success of the Lower Mokelumne River Restoration Program and determining if the modifications of the program are appropriate for conserving fish and wildlife resources in the Lower Mokelumne River. The Program began in 1998 and will continue indefinitely.

Adult and juvenile California Central Valley steelhead will be captured (using boat and backpack electrofishing, rotary screw traps, fyke traps, beach seines and smolt bypass traps), sedated, weighed, measured, and checked for marks or tags. A subsample may be marked, tagged, and/or sampled for stomach contents. All captured fish will then be allowed to recover in well oxygenated water before release back into the Mokelumne River.

Permit 18064

The USFWS' Sacramento Fish and Wildlife Office is requesting a 2-year scientific research and enhancement permit to deploy two upstream migrant traps in the Gorrill Dam fish ladders on Butte Creek in Butte County, California. Upstream migrant traps will be operated one day each week between March 1-June 30 and August 1-November 30 annually. As traps are operated, adult fall-run and Central Valley spring-run Chinook salmon will be implanted with acoustic transmitters and released back to the Gorrill Dam fish ladder. Other fish species will be collected on an incidental basis. If California Central Valley steelhead are captured, fin clips may be taken to be used in genetic studies.

Trapping data will be archived in a database where they can be easily analyzed and retrieved, and data summaries and analyses will be presented in an annual report. After data collection, the principal investigators will develop a report recommending flows and/or restoration actions to reduce mortality of adult spring-run Chinook salmon in Butte Creek associated with blockage at the Lahar formation downstream of Durham Mutual Dam.

The proposed monitoring project does not include activities designed to intentionally result in the death of listed taxa. Sampling will be done one day per week, with the trap installed at 9 a.m. and pulled at 4 p.m. The traps will be checked every hour during sampling to make sure there are no more than ten fish in the trap at a time. USFWS will tag up to five fall-run Chinook salmon and ten Central Valley spring-run Chinook salmon per week, so that tagged fish will be released throughout the upstream migration period. This will ensure that tagged fish encounter the Lahar structure at a range of stream flows.

Permit 18181

The California Department of Fish and Wildlife (CDFW), Region II, is requesting a 5-year research and enhancement permit in order to determine the number of salmon entering the Colusa Basin Drainage Canal (CBDC) and identify points of entry into the CBDC system. In the spring of 2013, a large number of adult Chinook salmon were found trapped behind a water diversion of the CBDC system in the Sacramento National Wildlife Refuge (NWR) near Willows, California. CDFW personnel verified that a mix of Central Valley spring-run Chinook salmon and Sacramento River winter-run Chinook salmon were present. In total, 312 Chinook salmon were rescued from the stranding site. Many more were reported present in the area, however due to their location in the system and accessibility issues, it was not possible to rescue a number of them. With extremely low numbers of winter-run Chinook salmon returning to the Sacramento River in recent years, entrainment in the canals is likely having a substantial negative effect on the recovery.

A temporary trap will be installed within the CBDC upstream of points identified as potential entry points. The trapping site will be located approximately 14 miles upstream from the town of Knights Landing, California and will consist of a resistance board weir guiding fish into a fyke trap. The traps will be sampled continuously; 24 hours per day, 7 days per week. Once captured, all fish will be externally tagged with a floy tag identifying its capture. When feasible, biological data will be collected for all Chinook salmon captured and relocated (fork length, sex, physical condition, ad-clip status, and tissue samples for genetic analysis). When large numbers of Chinook salmon are encountered, biological data will be collected on a systematic subsample of fish.

To answer the question of where adult salmon enter the Colusa Basin and, once in, where they wind up in the labyrinth of canals and waterways and to gather information on movement timing and cues, CDFW propose using state of the art Pop-up Satellite Transmitting Tags (PSAT) to record and upload fine scale movements of adult salmon. Up to 40 adult Chinook salmon will be outfitted with a pop-up satellite tag and harness. Up to 40 acoustic tags may also be available for this project from other on-going studies. Detailed information will be gathered pertaining to trapping conditions; number, size and species of fish captured; type of tag and tag number received by individuals; and fish transport/release conditions.

Modification Request Received

Permit 14808-M1

Permit 14808 was issued to CDFW's Region II on September 26, 2012 for take of adult and juvenile California Central Valley steelhead; smolt and juvenile Sacramento River winter-run Chinook salmon and Central Valley spring-run Chinook salmon; and juvenile SDPS green sturgeon associated with research activities on the Sacramento River, in Yolo County, California.

For the 2012-2013 sampling season, exceptionally high flows, coupled with excessive debris in the Sacramento River contributed to higher catches than were anticipated under Permit 14808. Given last year's high catch numbers combined with preliminary data suggesting that Sacramento River winter-run Chinook salmon escapement estimates are higher than previous years, CDFW is requesting to modify Permit 14808 to accommodate the higher levels of juvenile winter-run Chinook salmon emigration expected to occur.

Sampling will occur through the use of paired 8-foot rotary screw traps (RSTs) at one site along the upper Sacramento River. The site, river mile (RM) 88.5, located near the town of Knights Landing will be sampled beginning in October and continue through June of the following year. Traps will be fished continuously and checked once every 24 hours unless conditions such as high flows or excessive debris warrants more frequent sampling.

Captured salmonids will be sedated, handled (including measurements), allowed to recover in fresh aerated water and released back into the Sacramento River downstream of the trapping location. The exception will be up to 20 adipose fin-clipped (hatchery) Chinook salmon that will be sacrificed per day for coded wire tag extraction and analysis. Additionally, a sub-sample of non ESA-listed fall-run Chinook salmon will be marked (Bismark Brown Y stain) and released upstream of the trapping location for trap efficiency testing. Any green sturgeon encountered during sampling will be recorded and immediately released downstream of the trapping location.

Dated: September 19, 2013.
Angela Somma,
Chief, Endangered Species Division, Office of Protected Resources, National Marine Fisheries Service.

[FR Doc. 2013-23213 Filed 9-24-13; 8:45 am]

BILLING CODE 3510-22-P